DEPARTMENT OF COMMERCE

Bureau of Industry and Security

15 CFR Part 744

[Docket No. 240215-0050]

RIN 0694-AJ54

Additions of Entities to the Entity List

AGENCY: Bureau of Industry and Security, Department of Commerce.

ACTION: Final rule.

SUMMARY: In this rule, the Bureau of Industry and Security (BIS) amends the Export Administration Regulations (EAR) by adding 93 entities under 95 entries to the Entity List. These entries are listed on the Entity List under the destinations of the People's Republic of China (China) (8), India (1), Kyrgyzstan (2), Russia (63), South Korea (1), Turkey (16), and the United Arab Emirates (UAE) (4). Two entities are added to the Entity List under two destinations, accounting for the difference in the totals. These entities have been determined by the U.S. Government to be acting contrary to the national security or foreign policy interests of the United States.

DATES: This rule is effective February 23, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730 through 774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add the following five entities to the Entity List: Dennex Enterprises Limited; Exeya Co., Limited; Most Development Limited; Sigma Technology Limited; and United Electronics Group Company Limited, all under the destination of China. These entities are added based on information that they significantly contribute to Russia's military and/or defense industrial base by facilitating the diversion of controlled microelectronics to Russia's military and intelligence authorities in support of Russia's war in Ukraine. This activity is contrary to the national security and foreign policy interests of the United States under § 744.11 and these entities qualify as military end users under § 744.21(g) of the EAR. These entities are receiving a footnote 3 designation because the ERC has determined that they are Russian or Belarusian `military end users' pursuant to § 744.21. A footnote 3 designation subjects these entities to the Russia/Belarus-Military End User Foreign Direct Product (FDP) rule, detailed in § 734.9(g). The entities are added with a license requirement for all items subject to the EAR and a license review policy of denial for all items subject to the EAR apart from food and medicine designated as EAR99, which will be reviewed on a case-by-case basis.

The ERC determined to add the following eight entities to the Entity List: Kaili Industrial H.K. Limited and Shenzhen Speed Industrial Materials Co., Ltd. under the destination of China, Muller Markt LLC and Profflab LLC under the destination of Kyrgyzstan, Daesung International Trading under the destination of South Korea, and Karasani Dis Ticaret Limited Sirketi; and Orel Dis Ticaret Ltd. under the destination of Turkey. These entities are added for their provision of support to Russia's industrial sector by procuring U.S.-origin machine tools, electronics test equipment, and machine tool spare parts for Russian end-users without required BIS licenses. These items enable Russia to continue its war against Ukraine by developing Russia's industrial base, which gives it the supplies and manufacturing capabilities it needs to replenish munitions and other military goods while also building its wartime economy. This activity is contrary to the national security and foreign policy interests of the United States under § 744.11 of the EAR. These entities will be added with a license requirement for all items subject to the EAR and a license review policy of denial.

The ERC determined to add the following 12 entities to the Entity List: Bion Group Ic Ve Dis Ticaret Limited Sirketi, under the destinations of China and Turkey; Sky17 OOO, under the destination of Russia; and Alesta World Dis Ticaret Ltd; Azu International Bilgi Teknolojileri Ve Dis Ticaret Limited Sirketi; Cozum Yazilim Donanim Elektronik Ic Ve Dis Tic A S; CTL Dis Ticaret Limited Sirketi; CTM Dis Ticaret Ltd. Sti.; Ervacan Makina Ekipmanları ve Sanayi Tedarik Ltd Şti.; Kayi Bilişim Elektronik Enerji Madencilik Ve Danismanlik Ltd. Şti.; Megasan Elektronik Ticaret Ve Sanayi A.S.; Smart Trading Tasimacilik San Ve Tic Ltd Sti; and Transeurope Bilişim Diş Ticaret Limited Şirketi, all under the destination of Turkey. These entities are being added because they have engaged in conduct contrary to U.S. foreign policy interests, including by supplying Russia with U.S.-origin items of potential importance to Russia's war effort. The actions of these companies are contrary to U.S. national security and foreign policy interests under § 744.11 of the EAR. Licenses are required for all items subject the EAR. License applications will be reviewed under a presumption of denial.

The ERC determined to add the following entity to the Entity List: Crynofist Aviation, under the destinations of India and the UAE. This addition is being made because the entity has repeatedly engaged in dilatory, evasive, or misleading behavior regarding its importing of U.S. origin goods. Furthermore, this entity has diverted or attempted to divert U.S.-origin items to Russia without prior authorization from BIS. This activity is contrary to U.S. national security and foreign policy interests under § 744.11 of the EAR. License applications will be reviewed under a presumption of denial.

The ERC determined to add the following six entities to the Entity List: OOO Center for Non-Destructive Testing Technologies Sovtest; Sovtest ATE; Sovtest MTM OOO; Sovtest-Servis OOO; Sovtest-Tekhno OOO; and UK PT Sovtest OOO, all under the destination of Russia. These entities are added based on the risk they pose of attempting to procure and re-export U.S.-origin items contrary to the national security and foreign policy interests of the United States. These entities are all corporate affiliates of OOO Sovtest Comp, which was added to the Entity List on December 22, 2020 (85 FR 83416), for acquiring both radiation-hardened parts and other sensitive electronic components and reexporting those U.S.-origin components to Russia without required licenses. In addition, according to open-source Russian government contract data, these entities have since 2001 acted as suppliers of electronic goods and other items for an extensive array of Russian governmental and state-owned entities that are currently designated on the Entity List. The ERC has determined these entities are engaging in conduct that poses a risk of violating the EAR such that prior review of exports and re-exports involving these parties, and the imposition of license requirements, enhances BIS's ability to prevent further violations of the EAR. These entities will be added with a license requirement for all items subject to the EAR. License applications will be reviewed under a presumption of denial.

The ERC determined to add the following 46 entities to the Entity List: AFM-Servers Limited Liability Company; Closed Joint Stock Company Marine Bridge and Navigation Systems; Closed Joint Stock Company Tekhrim; EFO Company Limited Liability Company; Federal State Unitary Enterprise Central Research Institute of Structural Materials Prometheus named after I.V. Gorynina; Joint Stock Company 356 Aircraft Repair Plant; Joint Stock Company 502 Military-Technical Property Repair Plant; Joint Stock Company A.S. Yakovlev Design Bureau; Joint Stock Company Aerokon; Joint Stock Company Bryansk Wheeled Tractor Factory-Almaz-Antey; Joint Stock Company Central Company of Financial Industrial Group High Speed Fleet; Joint Stock Company Central Scientific-Research Radiotechnical Institute named after Academic A. I. Berg; Joint Stock Company Defense Systems; Joint Stock Company Design Bureau Kuntsevo; Joint Stock Company Design Bureau of Special Machine Building; Joint Stock Company Eastern Defense Enterprise Granit; Joint Stock Company Kazan Experimental Design Bureau Soyuz; Joint Stock Company Main Production and Technical Enterprise Granit; Joint Stock Company Moscow Scientific-Research Institute Agat; Joint Stock Company Murom Radio Measuring Devices Plant; Joint Stock Company Mytishchi Machine Building Plant; Joint Stock Company Navigator Institute of Aviation Instrument-Making; Joint Stock Company Novosibirsk Aircraft Repair Plant; Joint Stock Company Oboronpromservice United Base Service Center; Joint Stock Company Obukhovskoye; Joint Stock Company Ryazan Production and Technical Enterprise Granit; Joint Stock Company Scientific Production Association Android Technics; Joint Stock Company Scientific Production Association Moscow Radio-Technical Plant; Joint Stock Company Scientific Production Association Pravdinsky Radio Plant; Joint Stock Company Scientific Production Enterprise Plant Iskra; Joint Stock Company Scientific Research Institute of Modern Telecommunication Technologies; Joint Stock Company Specialized Vector Experimental Design Bureau for Systems and Means of Measurement; Joint Stock Company State Scientific-Research Institute of Instrument Making; Joint Stock Company Sukhoi Design Bureau Company; Joint Stock Company Uraltransmash; Joint Stock Company Vega Radio Engineering Corporation; Joint Stock Company Zavod No. 9; Nobel Brothers Shipyard Limited Liability Company; OKB Luch Limited Liability Company; Open Joint Stock Company Russian Systems Corporation; P.P. Shirshov Institute of Oceanology of the Russian Academy of Sciences; Prom Composite Limited Liability Company; Public Joint Stock Company Saturn; Public Joint Stock Company Scientific Production Enterprise Impulse; Russian Firearms Limited Liability Company; and VR-Technologies Limited Liability Company, all under the destination of Russia. These entities are added for acquiring and attempting to acquire U.S.-origin items in support of Russia's military. This activity is contrary to U.S. national security and foreign policy interests under § 744.11 and these entities qualify as military end users under § 744.21 of the EAR. These entities are receiving a footnote 3 designation because the ERC has determined that they are Russian or Belarusian `military end users' pursuant to § 744.21. A footnote 3 designation subjects these entities to the Russia/Belarus-Military End User Foreign Direct Product (FDP) rule, detailed in § 734.9(g). The entities are added with a license requirement for all items subject to the EAR and a license review policy of denial for all items subject to the EAR apart from food and medicine designated as EAR99, which will be reviewed on a case-by-case basis.

The ERC determined to add the following ten entities to the Entity List: Acrol LLC; ARD Satcom; EKB-Neva; EMS Expert LLC; Fifth Element LLC; Medanta; Militech AO; Militech Trade LLC; Symphony LLC; and T-Komponent SP, all under the destination of Russia, to the Entity List. These entities are being added for attempting to evade export controls and sanctions and attempting to acquire U.S.-origin items in support of Russia. This activity is contrary to U.S. national security and foreign policy interests under § 744.11.

The ERC determined to add the following three entities to the Entity List: Miray Global Sanayi Ve Ticaret; Ramses Turizm Isletmesi Danismanlik; and Svista Turizm Ve Havacilik Dis, all under the destination of Turkey. These entities are added because they have shipped U.S.-origin goods to Russia in apparent violation of U.S. export controls imposed on Russia following its further invasion of Ukraine. License applications will be reviewed under a presumption of denial.

The ERC determined to add the following three entities to the Entity List: Lucky Star General Trading LLC; Marakish Express Cargo LLC; and Payload Cargo LLC, all under the destination of the United Arab Emirates. These additions are being made because these entities are part of a network implicated in the attempted transshipment of U.S.-origin goods to Iran or Russia, which presents a significant risk of violating the EAR. This activity is contrary to the national security and foreign policy interests of the United States under § 744.11 of the EAR. Licenses are required for all items subject to the EAR. License applications will be reviewed under a presumption of denial.

For the reasons described above, this final rule adds the following 93 entities under 95 entries to the Entity List and includes, where appropriate, aliases:

China

• Bion Group Ic Ve Dis Ticaret Limited Sirketi,

• Dennex Enterprises Limited,

• Exeya Co., Limited,

• Kaili Industrial H.K. Limited,

• Most Development Limited,

• Shenzhen Speed Industrial Materials Co., Ltd.,

• Sigma Technology Limited, and

• United Electronics Group Company Limited.

India

• Crynofist Aviation.

Kyrgyzstan

• Muller Markt LLC, and

• Profflab LLC.

Russia

• Acrol LLC,

• AFM-Servers Limited Liability Company,

• ARD Satcom,

• Closed Joint Stock Company Marine Bridge and Navigation Systems,

• Closed Joint Stock Company Tekhrim,

• EFO Company Limited Liability Company,

• EKB-Neva,

• EMS Expert LLC,

• Federal State Unitary Enterprise Central Research Institute of Structural Materials Prometheus named after I.V. Gorynina,

• Fifth Element LLC,

• Joint Stock Company 356 Aircraft Repair Plant,

• Joint Stock Company 502 Military-Technical Property Repair Plant,

• Joint Stock Company A.S. Yakovlev Design Bureau,

• Joint Stock Company Aerokon,

• Joint Stock Company Bryansk Wheeled Tractor Factory-Almaz-Antey,

• Joint Stock Company Central Company of Financial Industrial Group High Speed Fleet,

• Joint Stock Company Central Scientific-Research Radiotechnical Institute named after Academic A. I. Berg,

• Joint Stock Company Defense Systems,

• Joint Stock Company Design Bureau Kuntsevo,

• Joint Stock Company Design Bureau of Special Machine Building,

• Joint Stock Company Eastern Defense Enterprise Granit,

• Joint Stock Company Kazan Experimental Design Bureau Soyuz,

• Joint Stock Company Main Production and Technical Enterprise Granit,

• Joint Stock Company Moscow Scientific-Research Institute Agat,

• Joint Stock Company Murom Radio Measuring Devices Plant,

• Joint Stock Company Mytishchi Machine Building Plant,

• Joint Stock Company Navigator Institute of Aviation Instrument-Making,

• Joint Stock Company Novosibirsk Aircraft Repair Plant,

• Joint Stock Company Oboronpromservice United Base Service Center,

• Joint Stock Company Obukhovskoye,

• Joint Stock Company Ryazan Production and Technical Enterprise Granit,

• Joint Stock Company Scientific Production Association Android Technics,

• Joint Stock Company Scientific Production Association Moscow Radio-Technical Plant,

• Joint Stock Company Scientific Production Association Pravdinsky Radio Plant,

• Joint Stock Company Scientific Production Enterprise Plant Iskra,

• Joint Stock Company Scientific Research Institute of Modern Telecommunication Technologies,

• Joint Stock Company Specialized Vector Experimental Design Bureau for Systems and Means of Measurement,

• Joint Stock Company State Scientific-Research Institute of Instrument Making,

• Joint Stock Company Sukhoi Design Bureau Company,

• Joint Stock Company Uraltransmash,

• Joint Stock Company Vega Radio Engineering Corporation,

• Joint Stock Company Zavod No. 9,

• Medanta,

• Militech AO,

• Militech Trade LLC,

• Nobel Brothers Shipyard Limited Liability Company,

• OKB Luch Limited Liability Company,

• OOO Center for Non-Destructive Testing Technologies Sovtest,

• Open Joint Stock Company Russian Systems Corporation,

• P.P. Shirshov Institute of Oceanology of the Russian Academy of Sciences,

• Prom Composite Limited Liability Company,

• Public Joint Stock Company Saturn,

• Public Joint Stock Company Scientific Production Enterprise Impulse,

• Russian Firearms Limited Liability Company,

• Sky17 OOO

• Sovtest ATE,

• Sovtest MTM OOO,

• Sovtest-Servis OOO,

• Sovtest-Tekhno OOO,

• Symphony LLC,

• T-Komponent SP,

• UK PT Sovtest OOO, and

• VR-Technologies Limited Liability Company.

South Korea

• Daesung International Trading.

Turkey

• Alesta World Dis Ticaret Ltd,

• Azu International Bilgi Teknolojileri Ve Dis Ticaret Limited Sirketi,

• Bion Group Ic Dis Ticaret Limited Sirketi,

• Cozum Yazilim Donanim Eletronik Ic Ve Dis Tic A S,

• CTL Dis Ticaret Limited Sirketi,

• CTM Dis Ticaret Ltd. Sti,

• Ervacan Makina Ekipmanları ve Sanayi Tedarik Ltd Şti.,

• Karasani Dis Ticaret Limited Sirketi,

• Kayi Bilişim Elektronik Enerji Madencilik Ve Danismanlik Ltd. Şti.,

• Megasan Elektronik Ticaret Ve Sanayi A.S.,

• Miray Global Sanayi Ve Ticaret,

• Orel Dis Ticaret Ltd.,

• Ramses Turizm Isletmesi Danismanlik,

• Smart Trading Tasimacilik San Ve Tic Ltd Sti,

• Svista Turizm Ve Havacilik Dis, and

• Transeurope Bilişim Diş Ticaret Limited Şirketi.

United Arab Emirates

• Crynofist Aviation,

• Lucky Star General Trading LLC,

• Marakish Express Cargo LLC, and

• Payload Cargo LLC.

Savings Clause

For the changes being made in this final rule, shipments of items removed from eligibility for a License Exception or export, reexport, or transfer (in-country) without a license (NLR) as a result of this regulatory action that were en route aboard a carrier to a port of export, reexport, or transfer (in-country), on February 23, 2024, pursuant to actual orders for export, reexport, or transfer (in-country) to or within a foreign destination, may proceed to that destination under the previous eligibility for a License Exception or export, reexport, or transfer (in-country) without a license (NLR) before March 25, 2024. Any such items not actually exported, reexported, or transferred (in-country) before midnight, on March 25, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730 through 774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 7, 2023, 88 FR 62439 (September 11, 2023).

2. Supplement no. 4 to part 744 is amended:

a. Under CHINA, PEOPLE'S REPUBLIC OF by adding in alphabetical order entries for “Bion Group Ic Ve Dis Ticaret Limited Sirketi;” “Dennex Enterprises Limited;” “Exeya Co., Limited;” “Kaili Industrial H.K. Limited;” “Most Development Limited;” “Shenzhen Speed Industrial Materials Co., Ltd.;” “Sigma Technology Limited;” and “United Electronics Group Company Limited;”

b. Under INDIA by adding in alphabetical order an entry for “Crynofist Aviation;”

c. Under KYRGYZSTAN by adding in alphabetical order entries for “Muller Markt LLC;” and “Profflab LLC;”

d. Under RUSSIA by adding in alphabetical order entries for “Acrol LLC;” “AFM-Servers Limited Liability Company;” “ARD Satcom;” “Closed Joint Stock Company Marine Bridge and Navigation Systems;” “Closed Joint Stock Company Tekhrim;” “EFO Company Limited Liability Company;” “EKB-Neva;” “EMS Expert LLC;” “Federal State Unitary Enterprise Central Research Institute of Structural Materials Prometheus named after I.V. Gorynina;” “Fifth Element LLC;” “Joint Stock Company 356 Aircraft Repair Plant;” “Joint Stock Company 502 Military-Technical Property Repair Plant;” “Joint Stock Company A.S. Yakovlev Design Bureau;” “Joint Stock Company Aerokon;” “Joint Stock Company Bryansk Wheeled Tractor Factory-Almaz-Antey;” “Joint Stock Company Central Company of Financial Industrial Group High Speed Fleet;” “Joint Stock Company Central Scientific-Research Radiotechnical Institute named after Academic A. I. Berg;” “Joint Stock Company Defense Systems;” “Joint Stock Company Design Bureau Kuntsevo;” “Joint Stock Company Design Bureau of Special Machine Building;” “Joint Stock Company Eastern Defense Enterprise Granit;” “Joint Stock Company Kazan Experimental Design Bureau Soyuz;” “Joint Stock Company Main Production and Technical Enterprise Granit;” “Joint Stock Company Moscow Scientific-Research Institute Agat;” “Joint Stock Company Murom Radio Measuring Devices Plant;” “Joint Stock Company Mytishchi Machine Building Plant;” “Joint Stock Company Navigator Institute of Aviation Instrument-Making;” “Joint Stock Company Novosibirsk Aircraft Repair Plant;” “Joint Stock Company Oboronpromservice United Base Service Center;” “Joint Stock Company Obukhovskoye;” “Joint Stock Company Ryazan Production and Technical Enterprise Granit;” “Joint Stock Company Scientific Production Association Android Technics;” “Joint Stock Company Scientific Production Association Moscow Radio-Technical Plant;” “Joint Stock Company Scientific Production Association Pravdinsky Radio Plant;” “Joint Stock Company Scientific Production Enterprise Plant Iskra;” “Joint Stock Company Scientific Research Institute of Modern Telecommunication Technologies;” “Joint Stock Company Specialized Vector Experimental Design Bureau for Systems and Means of Measurement;” “Joint Stock Company State Scientific-Research Institute of Instrument Making;” “Joint Stock Company Sukhoi Design Bureau Company;” “Joint Stock Company Uraltransmash;” “Joint Stock Company Vega Radio Engineering Corporation;” “Joint Stock Company Zavod No. 9;” “Medanta;” “Militech AO;” “Militech Trade LLC;” “Nobel Brothers Shipyard Limited Liability Company;” “OKB Luch Limited Liability Company;” “OOO Center for Non-Destructive Testing Technologies Sovtest;” “Open Joint Stock Company Russian Systems Corporation;” “P.P. Shirshov Institute of Oceanology of the Russian Academy of Sciences;” “Prom Composite Limited Liability Company;” “Public Joint Stock Company Saturn;” “Public Joint Stock Company Scientific Production Enterprise Impulse;” “Russian Firearms Limited Liability Company;” “Sky17 OOO;” “Sovtest ATE;” “Sovtest MTM OOO;” “Sovtest-Servis OOO;” “Sovtest-Tekhno OOO;” “Symphony LLC;” “T-Komponent SP;” “UK PT Sovtest OOO;” and “VR-Technologies Limited Liability Company;”

e. Under SOUTH KOREA by adding in alphabetical order an entry “Daesung International Trading;”

f. Under TURKEY by adding in alphabetical order entries for “Alesta World Dis Ticaret Ltd;” “Azu International Bilgi Teknolojileri Ve Dis Ticaret Limited Sirketi;” “Bion Group Ic Ve Dis Ticaret Limited Sirketi;” “Cozum Yazilim Donanim Elektronik Ic Ve Dis Tic A S;” “CTL Dis Ticaret Limited Sirketi;” “CTM Dis Ticaret Ltd.;” “Ervacan Makina Ekipmanları ve Sanayi Tedarik Ltd Şti.;” “Karasani Dis Ticaret Limited Sirketi;” “Kayi Bilişim Elektronik Enerji Madencilik Ve Danismanlik Ltd. Şti.;” “Megasan Elektronik Ticaret Ve Sanayi A.S.;” “Miray Global Sanayi Ve Ticaret;” “Orel Dis Ticaret Ltd.;” “Ramses Turizm Isletmesi Danismanlik;” “Smart Trading Tasimacilik San Ve Tic Ltd Sti;” “Svista Turizm Ve Havacilik Dis;” and “Transeurope Bilişim Diş Ticaret Limited Şirketi;” and

g. Under UNITED ARAB EMIRATES by adding in alphabetical order entries for “Crynofist Aviation;” “Lucky Star General Trading LLC;” “Marakish Express Cargo LLC;” and “Payload Cargo LLC.”

The additions read as follows:

Supplement No. 4 to Part 744—Entity List

* * * * *

Country | Entity | License requirement | License review policy | Federal Register citation
* * * * * * *
CHINA, PEOPLE'S REPUBLIC OF | * * * * * *
| Bion Group Ic Ve Dis Ticaret Limited Sirketi, a.k.a., the following two aliases: —Bion Trade Group Limited; and —Bion Group Ltd Sti. Unit 1411, 14/Floor, Cosco Tower 183 Queen's Road Central, Sheung Wan, Hong Kong. (See alternate address under Turkey). | For all items subject to the EAR. (See § 744.11 of the EAR) | Presumption of denial | 89 FR [INSERT FR PAGE NUMBER] 2/27/2024.
| * * * * * *
| Dennex Enterprises Limited, 2 Ice House Street, Room 303, 3rd Floor, St. George's Building, Hong Kong. | For all items subject to the EAR. (See §§ 734.9(g),³ 746.8(a)(3), and 744.2l(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Exeya Co., Limited, 18 Luard Road, Room D, 16/F, One Capital Place, Wan Chai, Hong Kong; and 2-12 Au Pui Wan Street, Workshop F8, 4F, Valiant Industrial Center, Fo Tan, New Territories, Hong Kong. | For all items subject to the EAR. (See §§ 734.9(g),³ 746.8(a)(3), and 744.2l(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Kaili Industrial H.K. Limited, a.k.a., the following four aliases: —Kaili Industrial (H.K.) Limited; —Kaili Industrial (HK) Limited; —Kaili Industrial H.K. Ltd.; and —Hong Kong Kaili Industrial Co., Ltd. 45-51 Chatham Road South, Room 803, Chevalier House, Tsim Sha Tsui, Kowloon, Hong Kong. | For all items subject to the EAR. (See § 744.11 of the EAR) | Policy of denial | 89 FR [INSERT FR PAGE NUMBER] 2/27/2024.
| * * * * * *
| Most Development Limited, a.k.a., the following two aliases: —Most Development; and —Most Development Ltd. 2-16 Fayuen Street, Office 4, 16/F, Ho King Commercial Center, Hong Kong; and 9 Yin Chong Street, 21F, Room 01, Prosper Commercial Building, Hong Kong. | For all items subject to the EAR. (See §§ 734.9(g),³ 746.8(a)(3), and 744.2l(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Shenzhen Speed Industrial Materials Co., Ltd., a.k.a., the following twelve aliases: | For all items subject to the EAR. (See § 744.11 of the EAR) | Policy of denial | 89 FR [INSERT FR PAGE NUMBER] 2/27/2024. —SPEEDJET; —Speed Jet; —Speed Waterjet; —Shenzhenspeed Industrial Materials Co., Ltd; —Shenzhen Sipeter Industrial Materials Co., Ltd.; —Speed Industrial Materials (China) Co., Ltd.; —Speed Stainless Steel; —Speed Carbide; —Speed Waterjet Mall; —Huizhou Speed Waterjet Technology Co., Ltd.; —Speed Diamond; and —Speed Nozzle.
| No. 5003 Longgang Avenue, Room 607E, Xuyuan Building, Nanlian Community, Longgang District, Shenzhen, Guangdong, 518116, China; and Manjinghua Xiyue Courtyard, No. 6 Yincui Road, Room 409, Building 12, Nanlian Community, Longgang District, Shenzhen, Guangdong, China; and Baomin Road, 6B, Xianji Building, Bao'an District, Shenzhen, Guangdong, China; and No. 155 Baigang Road South, 2nd Floor, Building A, Huicheng District, Huizhou, Guangdong, China.
| * * * * * *
| Sigma Technology Limited, a.k.a., the following two aliases: —Sigma Technology; and —Sigma Technology Ltd. 45-51 Chatham Road South, Chevalier House, Room 803, Tsim Sha Tsui, Kowloon, Hong Kong; and 9 Choi Yuen Road, Units 223-226, 2/F, High Tech Center, Hong Kong; and 9 Choi Yuen Road, Units 303-304, 3/F, High Tech Center, Hong Kong; and 283 Shaukeiwan Road, 05, 15/F, Seaview Plaza, Shaukeiwan, Hong Kong. | For all items subject to the EAR. (See §§ 734.9(g),³ 746.8(a)(3), and 744.2l(b) of the EAR) | Policy of denial for all items subject to the EAR apart from food and medicine designated as EAR99, which will be reviewed on a case-by-case basis. See §§ 746.8(b) and 744.21(e) | 89 FR [INSERT FR PAGE NUMBER] 2/27/2024.
| * * * * * *
| United Electronics Group Company Limited, a.k.a., the following three aliases: —UEG; —United Electronics Group Limited Company; and —United Electronics Group Co. Ltd. (United). 14 Tai Yau Street, Rm. 5, 11/F, Startex Industrial Building, San Po Kong, Hong Kong; and No.14 Tai Yau Street, Startex Industrial Building, San Po Kong, Kowloon, Hong Kong; and No. 14 Tai Yau Street, 1105, 11/F, Startex Industrial Building, San Po Kong, Kowloon, Hong Kong. | For all items subject to the EAR. (See §§ 734.9(g),³ 746.8(a)(3), and 744.2l(b) of the EAR) | Policy of denial for all items subject to the EAR apart from food and medicine designated as EAR99, which will be reviewed on a case-by-case basis. See §§ 746.8(b) and 744.21(e) | 89 FR [INSERT FR PAGE NUMBER] 2/27/2024.
| * * * * * *
* * * * * * *
INDIA | * * * * * *
| Crynofist Aviation, a.k.a., the following two aliases: —Crynofist Aviation Fzco; and —Crynofist Design and Engineering Solutions Pvt Ltd. #677, 1st floor, 27 Main, 13th Cross Sector 1, HSR Layout, Bangalore, 560102, India; and Building No. 521/3, 2nd Floor, Toll Junction, Pukkattupady Road Edappally (P.O), Cochin—682024, Kerala, India. (See alternate address under United Arab Emirates). | For all items subject to the EAR. (See § 744.11 of the EAR) | Presumption of denial | 89 FR [INSERT FR PAGE NUMBER] 2/27/2024.
| * * * * * *
* * * * * * *
KYRGYZSTAN | Muller Markt LLC, a.k.a., the following six aliases: —Muller Market LLC; —Müller Market LLC; —Müller Markt LLC; —LLC Müller Markt; —Müller Markt Limited Liability Company; and —Limited Liability Company Müller Markt. 43 Fatyanova Street, Bishkek, 720005, Kyrgyzstan; and 95 Kalyk Akieva Street, 3rd Floor, Leninsky District, Bishkek, Kyrgyzstan. | For all items subject to the EAR. (See § 744.11 of the EAR) | Policy of denial | 89 FR [INSERT FR PAGE NUMBER] 2/27/2024.
| Profflab LLC, a.k.a., the following one alias: —Profflab OSOO. Apartment 2, 179 Toktogul Street, Bishkek, 720001, Kyrgyzstan. | For all items subject to the EAR. (See § 744.11 of the EAR) | Policy of denial | 89 FR [INSERT FR PAGE NUMBER] 2/27/2024.
| * * * * * *
* * * * * * *
RUSSIA | * * * * * *
| Acrol LLC, a.k.a., the following two aliases: —Akrol LLC; and —OOO Akrol. 33 Prospekt Ispytatelei, Litera A, Room 3N, Office 14, Saint Petersburg, 197349, Russia; and 18 Prospekt Kolomyazhski, Litera A, Room 79N, Komendantski Aerodom Municipal District, Kolomyazhski, Saint Petersburg, 197384, Russia. | For all items subject to the EAR. (See § 744.11 of the EAR) | Policy of denial | 89 FR [INSERT FR PAGE NUMBER] 2/27/2024.
| * * * * * *
| AFM-Servers Limited Liability Company a.k.a., the following two aliases: —AFM-Servers LLC; and —OOO AFM-Servers. Room I, Floor 16, 2 Volokolamskoe Highway, Building 6, Moscow, 125080, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| ARD Satcom, a.k.a., the following two aliases: —ARD Satcom Service, LLC; and —ARD Satkom Servis. 40 Partizanskaya Street, Moscow, 121359, Russia. | For all items subject to the EAR. (See § 744.11 of the EAR) | Policy of denial | 89 FR [INSERT FR PAGE NUMBER] 2/27/2024.
| * * * * * *
| Closed Joint Stock Company Marine Bridge and Navigation Systems, a.k.a., the following seven aliases: —AO MNS; —AO Morskie Navigatsionnye Sistemy; —JSC Morskiye Navigatsionnye Sistemy; —CJSC Marine Navigation Systems; —Marine Bridge and Navigation Systems Ltd; —Marine Navigation Systems; and —MNS SBP. 19 Promyshlennaya Street, Saint Petersburg, 198095, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Closed Joint Stock Company Tekhrim, a.k.a., the following four aliases: —CJSC Tekhrim; —Techcrim; —Techrim Joint Stock Company; and —ZAO Tekhrim. 39 Prudovaya Street, Zavyalovo, Republic of Udmurtia, 427000, Russia; and 8 Golyansky Posyolok Street, Izhevsk, Republic of Udmurtia, 426063, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| EFO Company Limited Liability Company, a.k.a., the following three aliases: —OOO EFO; —EFO Ltd; and —EFO LLC. Room 9N, 9 Mendeleevskaya Street, Letter V, Apartment 219, Saint Petersburg, 194044, Russia; and 21 Politechnicheskaya Street, Saint Petersburg, 192019 Russia; and 15A Novolitovskaya Street, Office 441, Saint Petersburg, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| EKB-Neva, a.k.a., the following one alias: —OOO EKB-Neva. 8 Kronshtadtskaya Street, Litera A, Office 6, Saint Petersburg, 198096, Russia. | For all items subject to the EAR. (See § 744.11 of the EAR) | Policy of denial | 89 FR [INSERT FR PAGE NUMBER] 2/27/2024.
| * * * * * *
| EMS Expert LLC, a.k.a., the following one alias: —OOO EMS-Ekspert. 39 Gorodskoi Lane, Office 1, Tula, Tulskaya Oblast, 300012, Russia. | For all items subject to the EAR. (See § 744.11 of the EAR) | Policy of denial | 89 FR [INSERT FR PAGE NUMBER] 2/27/2024.
| * * * * * *
| Federal State Unitary Enterprise Central Research Institute of Structural Materials Prometheus named after I.V. Gorynina, a.k.a., the following nine aliases: —Central Research Institute of Structural Materials Prometey; —CRISM Prometey; —Federal State Unitary Enterprise Central Research of Structural Materials Prometey named by I.V. Gorynin of National Research Center Kurchatov Institute; —Federalnoe Gosudarstvennoe Unitarnoe Predpriyatie Tsentralny Nauchno-Issledovatelski Institut Konstruktsionnykh Materialov Prometei Imeni I.V. Gorynina Natsionalnogo Issledovatelskogo Tsentra Kurchatovski Institut; —FSUE CRISM Prometey; —NITS Kurchatovskiy Institut—TSNII KM Prometey; —NRC Kurchatov Institute—Central Research Institute of KM Prometheus; —NRC Kurchatov Institute CRISM Prometey; and —Prometheus. 49 Shpalernaya Street, Saint Petersburg, 191015, Russia; and 120th Gatchina Division, 12, Gatchina, Leningrad Region, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Fifth Element LLC, a.k.a., the following one alias: —OOO Pyaty Element. 4 Gromova Street, Office 331, St. Petersburg, 195196, Russia; and Tallinskaya Street, Litera O, Building 7, Saint Petersburg, 195196, Russia; and 5 2-Ya Entuziastov Street, Korpus 5, Moscow, 111024, Russia. | For all items subject to the EAR. (See § 744.11 of the EAR) | Policy of denial | 89 FR [INSERT FR PAGE NUMBER] 2/27/2024.
| * * * * * *
| Joint Stock Company 356 Aircraft Repair Plant, a.k.a., the following five aliases: —AO 356 ARZ; —JSC 356 ARP; —JSC 356 ARZ; —356 ARZ; and —356 ARZ PAO. Microdistrict Engels-1, Engels, Saratov Region, 413101, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company 502 Military-Technical Property Repair Plant, a.k.a., the following six aliases: —AO 502 ZRVTI; —JSC 502 Military-Technical Property Repair Plant; —JSC 502 ZRVTI; —OAO 502 Zavod po Remontu Voenno-Tekhnicheskogo Imushchestva; —502 ZRVI; and —502 ZRVTI. Noginsk-5 City-Type Village, Noginsk, Moscow Region, 142470, Russia; and Central Microdistrict, Vsevolodov Village, Elektrostal Urban District, Moscow Region, 142405, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company A.S. Yakovlev Design Bureau, a.k.a., the following nine aliases: —AO OKB Im. A.S. Yakovleva; —Design Bureau Named After A.S. Yakovlev; —JSC Yakovlev Design Bureau; —JSC A.S. Yakovlev DB; —OKB Imeni A.S. Yakovleva, OAO; —Joint Stock Company Experimental Design Bureau Named After A.S. Yakovlev; —Joint Stock Company OKB Named After A.S. Yakovlev; —OJSC Opytno-Konstruktorskoye Byuro Im. A.S. Yakovleva; and —Yakovlev Design Bureau. 68 Leningradski Avenue, Business Center Aviapark, Moscow, 125315, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Aerokon, a.k.a., the following three aliases: —AO Aerokon; —Aerocon; and —JSC Aerocon. 1 Zhukovskogo Street, Zhukovski, Moscow Region, 140180, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Bryansk Wheeled Tractor Factory-Almaz-Antey, a.k.a., the following three aliases: —AO BZKT-Almaz-Antey; —BZKT-Almaz-Antey; and —JSC Bryansk Wheeled Tractor Factory-Almaz-Antey. 1 Staleliteyny Street, Bryansk, Bryansk Region, 241035, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Central Company of Financial Industrial Group High Speed Fleet, a.k.a., the following eight aliases: —AO TsK FPG Skorostnoi Flot; —AO Tsentralnaya Kompaniya Finansovo-Promyshlennoi Gruppy Skorostnoi Flot; —JSC Central Company of Financial Industrial Group High Speed Fleet; —Financial Industrial Group High-Speed Fleet —FIG High-Speed Ships; —Rapid Fleet Financial Industrial Group; —Nigh-Speed Ships; and —FIG High-Speed Ships. 6 Suvorovskaya Street, Premises V, Floor 2, Room 4, Moscow, 107023, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Central Scientific-Research Radiotechnical Institute named after Academic A. I. Berg, a.k.a., the following five aliases: —AO TsNIRTI i.m. Akademika A. I. Berga; —AO Tsentralny Nauchno-Issledovstelski Radiotekhnicheski Institut Imeni Akademika A.I. Berga; —Central Scientific-Research Radiotechnical Institute named after Academic A. I. Berg; —CNIRTI; and —TsNIRTI n.a. A. I. Berg. 20 Novaya Basmanaya Street, Building 9, Moscow, 107078, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Defense Systems, a.k.a., the following four aliases: —AO Oboronitelnye Sistemy; —JSC Defense Systems; —Defense Systems Corporation; and —Defensys. 29 Vereyskaya Street, Moscow, 121357, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Design Bureau Kuntsevo, a.k.a., the following four aliases: —AO KB Kuntsevo; —AO Konstruktorskoe Byuro Kuntsevo; —JSC Design Bureau Kuntsevo; and —KB Kuntsevo. 29a Vereyskaya Street, Building 4, Moscow, 121357, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Design Bureau of Special Machine Building, a.k.a., the following nine aliases: —AO KBSM; —AO Konstruktorskoe Byuro Spetsialnogo Mashinostroeniya; —JSC Design Bureau of Special Machine Building; —KBSM; —Design Bureau of Special Machine Building AO; —Design Bureau of Special Machine Building; —KBSM Design Bureau of Special Machine Building; —Joint Stock Company KBSM; and —Joint Stock Company Engineering Office Spetsialnogo Mashinostroyeniya. 120 Obukhovsky Oborony Avenue, Saint Petersburg, 192012, Russia; and 64 Obukhovskoy Oborony Avenue, Saint Petersburg 192012 Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Eastern Defense Enterprise Granit, a.k.a., the following four aliases: —AO VOP Granit; —AO Vostochnoe Oboronnoe Predpriyatie Granit; —JSC Eastern Defense Enterprise Granit; and —VOP Granit. 55 Eniseiskaya Street, Vladivostok, Primorski Region, 690039, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Kazan Experimental Design Bureau Soyuz, a.k.a., the following four aliases: —AO Kazanskoe OKB Soyuz; —AO Kazanskoe Opytnoe Konstruktorskoe Byuro Soyuz; —JSC Kazan Experimental Design Bureau Soyuz; and —Kazan OKB Soyuz. 1 Dementiev Street, Kazan, Republic of Tatarstan, 420036, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Main Production and Technical Enterprise Granit, a.k.a., the following ten aliases: —AO Golovnoe Proizvodstvenno-Tekhnicheskoe Predpriyatie Granit; —AO GPTP Granit; —GPTP Granit; —Granit Main Service and Repair Center of the Group for Air Defense Concern Almaz-Antey; —GTsO PVO Granit; —JSC Main Production and Technical Enterprise Granit; —Leading Production and Technical Enterprise Granit; —JSC GPTP Granit; —Almaz-Antey GPTP Granit; and —JSC Head Technological Enterprise Granit. 7 Molodogvardeyskaya Street, Moscow, 121467, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Moscow Scientific-Research Institute Agat, a.k.a., the following four aliases: —AO MNII Agat; —AO Moskovski Nauchno-Issledovatelski Institut Agat; —JSC Moscow Scientific-Research Institute Agat; and —MNII Agat. 2a Tupolev Street, Zhukovsky, Moscow Region, 140185, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Murom Radio Measuring Devices Plant, a.k.a., the following four aliases: —AO Muromski Zavod Radioizmeritelnykh Priborov; —AO MZ RIP; —JSC Murom Radio Measuring Devices Plant; and —MZ RIP. 2 Karacharovskoye Highway, Murom, Vladimir Region, 602267, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Mytishchi Machine Building Plant, a.k.a., the following four aliases: —AO MMZ; —MM Zavod; —MMZ; —Mytishchi Machine Building Plant; —MMZ JSC; —Otkrytoe Aktsionernoe Obshchestvo Mytishchinski Mashinostroitelny Zavod; —JSC Mytishchinski Machine-Building Plant; and —Mytishchinski Machinostroitelny Zavod, OAO. Passage 1-33 Yaroslavl Highway, Mytishchi, Moscow Region, 141009, Russia; and Passage 2-VL11, Frunze Street, Mytishchi, Moscow Region, 141001, Russia; and 4 Kolontsova Street, Mytishchi, Moscow Region, 141009, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Navigator Institute of Aviation Instrument-Making, a.k.a., the following five aliases: —AO Navigator; —AO Institut Aviatsionnogo Priborostroeniya Navigator; —Institute of Aviation Instrument-Making Navigator; —JSC Navigator Institute of Aviation Instrument-Making; and —Navigat. 14 Shkipersky Protok Street, Letter Z, Building 19, Office 325, Saint Petersburg, 199106, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Novosibirsk Aircraft Repair Plant, the following four aliases: —AO NARZ; —AO Novosibirski Aviaremontny Zavod; —JSC NARP; and —Novosibirski Aviaremontny Zavod, PAO. 2/4 Aeroport Street, Novosibirsk, Novosibirsk Region, 630123, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Oboronpromservice United Base Service Center, a.k.a., the following four aliases: —AO OBSTS Oboronpromservis; —AO Obedinenny Bazovy Servisny Tsentr Oboronpromservis; —JSC Oboronpromservice United Base Service Center; and —OBSC Oboronpromservice. 29 Vereyskaya Street, Building 6, Moscow, 121357, Russia; and 29A Vereyskaya Street, Building 4, Moscow, 121357, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Obukhovskoye, a.k.a., the following five aliases: —AO Obukhovskoe; —JSC Obukhovskoye; —Obukhovskoye; —CJSC Obukhovskoye; and —SC Obukhovskoye. 7 Tsvetochnaya Street, Building 1, Room 18-N, Saint Petersburg, 196084, Russia; and 7 Tsvetochnaya Street, Letter L, Saint Petersburg, 196084, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Ryazan Production and Technical Enterprise Granit, a.k.a., the following four aliases: —AO RPTP Granit; —AO Ryazanskoe Proizvodstvenno-Tekhnicheskoe Predpriyatie Granit; —JSC Ryazan Production and Technical Enterprise Granit; and —RPTP Granit. 1 Internationalnaya Street, Building G, Ryazan, Ryazan Region, 390039, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Scientific Production Association Android Technics, a.k.a., the following nine aliases: —Android Technics NPO; —AO Nauchno-Proizvostvennoe Obedinenie Androidnaya Tekhnika; —AO NPO Androidnaya Tekhnika; —NPO AT; —Open Joint Stock Company Android Technika; —PAO NPO Androidnaya Tekhnika; —Research and Production Association Android Technics; —Joint Stock Company Scientific Production Association Androidnaya Tekhnika; and —SPA Android Technics. 23 Graivoronovskaya Street, Business Center Volzhski, Moscow, 109518, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Scientific Production Association Moscow Radio-Technical Plant, a.k.a., the following six aliases: —AO Nauchno-Proizvodstvennoe Obedinenie Moskovski Radiotekhnicheski Zavod; —AO NPO MRTZ; —AO Moskovski Radiotekhnicheski Zavod; —JSC Research and Production Association Moscow Radio-Technical Plant; —NPO MRTZ; and —MRTZ. 29 Vereyskaya Street, Moscow, 121357, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Scientific Production Association Pravdinsky Radio Plant, a.k.a., the following five aliases: —AO Nauchno-Proizvodstvennoe Obedinenie Pravdinski Radiozavod; —AO NPO PRZ; —JSC Research and Production Association Pravdinsky Radio Plant; —NPO PRZ; and —Pravdinsky Radio Plant. 34 Gorky Street, Balakhna, Nizhny Novgorod Region, 606408, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Scientific Production Enterprise Plant Iskra, a.k.a., the following five aliases: —AO Nauchno-Proizvodstvennoe Predpriyatie Zavod Iskra; —AO NPP Zavod Iskra; —JSC Research and Production Enterprise Plant Iskra; —NPP Plant Iskra; and —Zavod Iskra. 75 Narimanov Avenue, Ulyanovsk, Ulyanovsk Region, 432030, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Scientific Research Institute of Modern Telecommunication Technologies, a.k.a., the following six aliases: —AO Nauchno-Issledovatelski Institut Sovremennykh Telekommunikatsionnykh Tekhnologii; —AO NII STT; —JSC NII STT; —NII Modern Telecommunications Technologies; —NDI Modern Telecommunication Technologies; and —Smolensk Research Institute of Modern Telecommunications Technologies. 10 Novo-Leningradskaya Street, Smolensk, Smolensk Region, 214012, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Specialized Vector Experimental Design Bureau for Systems and Means of Measurement, a.k.a., the following four aliases: —AO SOKB Vektor; —JSC SOKB Vector; —SOKB Vector; and —Spetsializirovannoe Opytno-Konstruktorskoe Byuro Sistem I Sredstv Izmereni Vektor. 33 Mironovskaya Street, Building 26, Floor 4, Premises 2, Moscow, 105318, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company State Scientific-Research Institute of Instrument Making, a.k.a., the following five aliases: —AO GosNIIP; —Gosudarstvenny Nauchno-Issledovatelski Institut Priborostroeniya; —GosNIIP; —JSC State Scientific-Research Institute of Instrument Making; and —State Research Institute Engineering. 125 Mira Avenue, Moscow, 129226, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Sukhoi Design Bureau Company, a.k.a., the following six aliases: —OAO Kompaniya Sukhoi OKB Sukhogo; —OKB Sukhoi Design Bureau OAO; and —Sukhoi OKB; —Sukhoi Design Bureau; —Sukhoi Design Bureau Aviation Scientific-Industrial Complex; and —Sukhoi Design Bureau JSC. P.O. Box 604, 23A Polikarpova Street, Moscow, 125284, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Uraltransmash, a.k.a., the following seven aliases: —AO Uralski Zavod Transportnogo Mashinostroeniya; —Uralski Zavod Transportnogo Mashinostroeniya, PAO; —JSC Uraltransmash; —Uraltransmash; —Urals Plant of Transportation Machinery Joint Stock Company; —Aktsionernoe Obshchestvo Uralskiy Zavod Transportnogo Mashinostroeniya; and —The Urals Plant of Transportation Engineering. 29 Frontovykh Brigad Street, Yekaterinburg, Sverdlovsk Region, 620017, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| Joint Stock Company Vega Radio Engineering Corporation, a.k.a., the following seven aliases: —AO Kontsern Vega; —Concern Vega; —JSC Concern Vega; —JSC Radio Engineering Corporation Vega; —Kontsern Radiostroeniya Vega; —Vega Radio Engineering Corporation; and —JSC Vega Corp. 34 Kutuzovsky Avenue, Moscow, 121170, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Joint Stock Company Zavod No. 9, a.k.a., the following six aliases: —AO Zavod No. 9; —JSC Factory No. 9; —No. 9 Plant; —UVZ Zavod No. 9; —Zavod 9; and —Zavod 9 Yekaterinburg. 1-I Pyatiletki Square, Yekaterinburg, Sverdlovsk Region, 620012, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Medanta, 2 Sovetskaya Street, Aramil, Sverdlovsk Oblast, 624002, Russia. | For all items subject to the EAR. (See § 744.11 of the EAR) | Policy of denial | 89 FR [INSERT FR PAGE NUMBER] 2/27/2024.
| * * * * * *
| Militech AO, Building 46, Mytnaya Street, Structure 5, Room 19, Moscow, 115162, Russia. | For all items subject to the EAR. (See § 744.11 of the EAR) | Policy of denial | 89 FR [INSERT FR PAGE NUMBER] 2/27/2024.
| Militech Trade LLC, a.k.a., the following one alias: —MTT. Building 46, Mytnaya Street, Structure 5, Room 20, Moscow, 115162, Russia. | For all items subject to the EAR. (See § 744.11 of the EAR) | Policy of denial | 89 FR [INSERT FR PAGE NUMBER] 2/27/2024.
| * * * * * *
| Nobel Brothers Shipyard Limited Liability Company, a.k.a., the following three aliases: —Nobel Brothers Shipyard; —Nobel Brothers Shipyard LLC; and —OOO Verf Bratev Nobel. 60 Pyatiletki Street, Rybinsk, Yaroslavl Region, 152909, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| OKB Luch Limited Liability Company, a.k.a., the following three aliases: —OKB-Luch; —OKB Luch LLC; and —OOO OKB Luch. 2B Kazanskaya Street, Arzamas, Nizhniy Novgorod Region, 607220, Russia; and 89 Arzamasskaya Street, Arzamas, Nizhniy Novgorod Region, 607249, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| OOO Center for Non-Destructive Testing Technologies Sovtest, a.k.a., the following two aliases: —Sovtest TsTNK; and —Sovtest NDT. 135 Karl Marks Street, Kursk, Kursk Oblast, 305000, Russia. | For all items subject to the EAR. (See § 744.11 of the EAR) | Presumption of denial | 89 FR [INSERT FR PAGE NUMBER] 2/27/2024.
| * * * * * *
| Open Joint Stock Company Russian Systems Corporation, a.k.a., the following four aliases: —JSC Russian Systems Corporation; —OAO Korporatsiya Russkiye Systemy; —OJSC Russian Systems Corporation; and —Russian Systems Corporation. 23 Pravda Street, Moscow, 127015, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| P.P. Shirshov Institute of Oceanology of the Russian Academy of Sciences, a.k.a., the following eight aliases: —Federalnoe Gosudarstvennoe Byudzhetnoe Uchrezhdenie Nauki Institut Okeanologii Im. P.P. Shirshova Rossiiskoi Akademii Nauk; —Institut Okanologii RAN; —Institut Okeanology imeni P.P. Shirshova RAN; —Institute of Oceanology RAN; —IO RAN; —IO RAS; —Shirshova Rossiyskoy Akademii Nauk; and —Shirshov Institute of Oceanology. 36 Nakhimovskiy Avenue, Moscow, 117218, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Prom Composite Limited Liability Company, a.k.a., the following three aliases: —Prom Composite; —Prom Composite LLC; and —OOO Prom Kompozit. 110 Dmitrovskoye Highway, Moscow, 127411, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Public Joint Stock Company Saturn, a.k.a., the following three aliases: —PJSC Saturn; —PAO Saturn; and —PAO Saturn Omsk. 41 Karl Marx Avenue, Omsk, Omsk Region, 644042, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Public Joint Stock Company Scientific Production Enterprise Impulse, a.k.a., the following four aliases: —NPP Impulse; —PAO Nauchno-Proizvodstvennoe Predpriyatie Impuls; —PJSC Research and Production Association Impulse; and —PAO NPP Impulse. 102 Mira Avenue, Moscow, 129626, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Russian Firearms Limited Liability Company, a.k.a., the following eight aliases: —RSO; —Russian Firearms LLC; —Russian Small Arms LLC; —Russian Shooting Weapons LLC; —Russian Firearms; —OOO Russkoe Strelkovoe Oruzhie; —Russkoye Strekovoye Oruzhiye LLC; and —Russian Small Arms Company. 2/193 Deryabin Way, Room 49, Izhevsk, Udmurt Republic, 426006, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
| Sky17 OOO, a.k.a., the following one alias: —Skai17 OOO. D. 19 K. 4 Kv. 368, Ul. Eletskaya, Moscow 115583, Russia; and Radio St., 7, P. 1, Office 411, Moscow, 105005, Russia. | For all items subject to the EAR. (See § 744.11 of the EAR) | Policy of Denial | 89 FR [INSERT FR PAGE NUMBER] 2/27/2024.
| * * * * * *
| Sovtest ATE, a.k.a. the following two aliases: —OOO Sovtest ATE; and —Sovtest ATE LLC. 49/49A Volodarskogo Street, Kursk, Kursk Oblast, 305000, Russia; and 135 Karl Marks Street, Kursk, Kursk Oblast, 305000, Russia. | For all items subject to the EAR. (See § 744.11 of the EAR) | Presumption of denial | 89 FR [INSERT FR PAGE NUMBER] 2/27/2024.
| Sovtest MTM OOO, a.k.a., the following two aliases: —Sovtest MTM; and —Sovtest MTM LLC. 49/49A Volodarskogo Street, Kursk, Kursk Oblast, 305000, Russia | For all items subject to the EAR. (See § 744.11 of the EAR) | Presumption of denial | 89 FR [INSERT FR PAGE NUMBER] 2/27/2024.
| Sovtest-Servis OOO, a.k.a., the following two aliases: —Sovtest-Servis; and —Sovtest-Service LLC. 49/49A Volodarskogo Street, Kursk, Kursk Oblast, 305000, Russia | For all items subject to the EAR. (See § 744.11 of the EAR) | Presumption of denial | 89 FR [INSERT FR PAGE NUMBER] 2/27/2024.
| Sovtest-Tekhno OOO, a.k.a., the following two aliases: —Sovtest-Tekhno; and —Sovtest-Techno LLC. 49/49A Volodarskogo Street, Kursk, Kursk Oblast, 305000, Russia | For all items subject to the EAR. (See § 744.11 of the EAR) | Presumption of denial | 89 FR [INSERT FR PAGE NUMBER] 2/27/2024.
| * * * * * *
| Symphony LLC, a.k.a., the following one alias: —OOO Simfoniya. 15 Yakovoapostolsky Lane, Moscow, 105064, Russia. | For all items subject to the EAR. (See § 744.11 of the EAR) | Policy of denial | 89 FR [INSERT FR PAGE NUMBER] 2/27/2024.
| * * * * * *
| T-Komponent SP, a.k.a., the following one alias: —T-Component SP. 7 Konstitutsii Square, Office 614, Litera A, Novoizmailovskoe Municipal District, Saint Petersburg, 196191, Russia; and 153 Prospekt Leninskii, Room 60N, Office 215, Floor 2, Saint Petersburg, 196247, Russia. | For all items subject to the EAR. (See § 744.11 of the EAR) | Policy of denial | 89 FR [INSERT FR PAGE NUMBER] 2/27/2024.
| * * * * * *
| UK PT Sovtest OOO, a.k.a., the following four aliases: —OOO Upravlyayushchaya Kompaniya Promyshlenny Tekhnopark Sovtest; —Management Company Industrial Tekhnopark Sovtest; —UK PT Sovtest; and —UK PT Sovtest LLC. 49/49A Volodarskogo Street, Kursk, Kursk Oblast, 305000, Russia | For all items subject to the EAR. (See § 744.11 of the EAR) | Presumption of denial | 89 FR [INSERT FR PAGE NUMBER] 2/27/2024.
| * * * * * *
| VR-Technologies Limited Liability Company, a.k.a., the following six aliases: —OOO VR-Teknologii; —Vertoletnye Systemy, OOO; —VR Tech; —VR-Technologies; —VR Technologies LLC; and —VR-Technologies of Russian Helicopters. 12 Krasnopresnenskaya Embankment, Center of International Trade, Premises 1/13, Moscow, 123610, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER] 2/27/2024.
| * * * * * *
* * * * * * *
SOUTH KOREA | Daesung International Trading, a.k.a. the following two aliases: —Daesung International Trade; and —Dae Sung International Trading. 716 Sangdong-ro, Sangdong-myeon, Gimhae, Gyeongsangnam-do, South Korea. | For all items subject to the EAR. (See § 744.11 of the EAR) | Policy of denial | 89 FR [INSERT FR PAGE NUMBER] 2/27/2024.
| * * * * * *
* * * * * * *
TURKEY | * * * * * *
| Alesta World Dis Ticaret Ltd, a.k.a., the following one alias: —Alesta World Diş Ticaret Limited Şirketi. Inonu Mah. Ulusu Cad. Ruzgar Sk. Deniz, Apt No:10, D:4, Atasehir, Istanbul, Turkey; and No:7-10 Inonu Mahallesi, Ruzgar Sokak, Atasehir, Istanbul, 34755, Turkey. | For all items subject to the EAR. (See § 744.11 of the EAR) | Presumption of denial | 89 FR [INSERT FR PAGE NUMBER] 2/27/2024.
| * * * * * *
| Azu International Bilgi Teknolojileri Ve Dis Ticaret Limited Sirketi, a.k.a., the following two aliases: —Azu International Information Technologies and Foreign Trade Limited Company; and —Azu International Ltd Sti. Huseyinaga neighborhood Istiklal St., Grandpera Block No: 56-58 Inner door No: 5, Beyoglu, Istanbul, Turkey. | For all items subject to the EAR. (See § 744.11 of the EAR) | Presumption of denial | 89 FR [INSERT FR PAGE NUMBER] 2/27/2024.
| Bion Group Ic Ve Dis Ticaret Limited Sirketi, a.k.a., the following two aliases: —Bion Trade Group Limited; and —Bion Group Ltd Sti. Maslak Mah. Büyükdere Cad. Noramin İş Merkezi No: 237 İç Kapi No: 202—Sariyer Istanbul, Turkey. (See alternate address under China). | For all items subject to the EAR. (See § 744.11 of the EAR) | Presumption of denial | 89 FR [INSERT FR PAGE NUMBER] 2/27/2024.
| * * * * * *
| Cozum Yazilim Donanim Elektronik Ic Ve Dis Tic A S, a.k.a., the following one alias: —Cozum Yazilim Donanim A S. No:54/B Gazi Mustafa Kemal Bulvari, Maltepe, Cankaya, Ankara, 06570, Turkey; and GMK. Bulvarı, No: 54/B, 06570, Maltepe/Ankara, Turkey; and Zübeyde Hanım Mah. Kazım, Karabekir Cd. No:27/1, Altındağ/Ankara, Turkey; and Yukarı Dudullu Mah. Necip, Fazıl Blv. Keyap Çarşı Sit. G2, Blk. No:125 Ümraniye/İstanbul, Turkey; and Niyazi Mahallesi Tuna Sokak, No:4 Ilıcak Plaza Kat:3 İç Kapı, No:14 Battalgazi/Malatya, Turkey; and No.11 Sarigazi,Meclis Mah. Ataturk Cad. Kanarya Sok. Umraniye Istanbul, 34764, Turkey. | For all items subject to the EAR. (See § 744.11 of the EAR) | Presumption of denial | 89 FR [INSERT FR PAGE NUMBER] 2/27/2024.
| CTL Dis Ticaret Limited Sirketi, Nisbetiye Mah. Gazi Güçnar Sk. Uygur Iş Merkezi Blok No: 4 İc Kapı No: 2 Beşiktaş/Istanbul, Turkey. | For all items subject to the EAR. (See § 744.11 of the EAR) | Presumption of denial | 89 FR [INSERT FR PAGE NUMBER] 2/27/2024.
| CTM Dis Ticaret Ltd. Sti., a.k.a., the following four aliases: —CTM International Trade LLC; —CTM International Trade Ltd.; —CTM Lojistik; and —Armax Ballistics. Hilal Mahallesi Holzmeister Caddesi 14/B Çankaya 06550, Ankara, Turkey; and İrfan Başbuğ Cd. No:231 Keçiören/Ankara, Turkey; and 17-66 Portakal Cicegi Sokak, Cankaya, Ankara, Turkey. | For all items subject to the EAR. (See § 744.11 of the EAR) | Presumption of denial | 89 FR [INSERT FR PAGE NUMBER] 2/27/2024.
| * * * * * *
| Ervacan Makina Ekipmanları ve Sanayi Tedarik Ltd Şti., a.k.a., the following six aliaes: —Ervacan; —Ervacan Makina Ekipmanlari Ve Sanayi Tedarik Ltd. Sti.; —Ervacan Machinery Equipment and Industry Supply Ltd.; —Ervacan Makina; —Ervacan Makina Ekipmanlari Ve Sanayi Tedarik Limited Sirketi; and —Ervacan Makina Ltd. Küçükbakkalköy Mah., Defne Sok., Flora Suite Office, KNo: 1, DNo: 365, PK, 34750, Ataşehir, İstanbul, Turkey. | For all items subject to the EAR. (See § 744.11 of the EAR) | Presumption of denial | 89 FR [INSERT FR PAGE NUMBER] 2/27/2024.
| * * * * * *
| Karasani Dis Ticaret Limited Sirketi, a.k.a., the following 11 aliases: —Karasani Group Companies; —Karasani Trade; —Karasani Logistic; —Karasani Packing; —Karvan International Logistics; —Karasani Foreign Trade Limited Company; —Arizai Gida Ticaret Limited Sirketi; —Improtex Foreign Trade Limited Liability Company; —Improtex LLC; —Improtex; and —Improtex Dis Ticaret Limited Sirketi. Selale Caddesi No. 13E, Bahcesehir 2, Kısım Mahallesi, Basaksehir, Istanbul, Turkey; and Cevval Sokak No: 1/3, Ic Kapi No: 180, Cumhuriyet Mahallesi, Buyukcekmece, Istanbul, 34500, Turkey. | For all items subject to the EAR. (See § 744.11 of the EAR) | Policy of denial | 89 FR [INSERT FR PAGE NUMBER] 2/27/2024.
| Kayi Bilişim Elektronik Enerji Madencilik Ve Danismanlik Ltd. Şti., a.k.a., the following one alias: —Kayi Enerji. No:1 Ivedik OSB Mahallesi, 2224 Caddesi, Yenimahalle, Ankara 06378, Turkey. | For all items subject to the EAR. (See § 744.11 of the EAR) | Presumption of denial | 89 FR [INSERT FR PAGE NUMBER] 2/27/2024.
| * * * * * *
| Megasan Elektronik Ticaret Ve Sanayi A.S., One Block Umraniye Blok, No:16-72 Fatih Sultan Mahallesi, Depoyolu Sokak, Umraniye, Istanbul 34771, Turkey; and Poligon Caddesi, Oneblock İş Merkezi Kat:11, Umraniye, Istanbul 34771, Turkey; and Perpa Ticaret Merkezi no 1409 Kat 11, Istanbul, 34384, Turkey; and Beylikdüzü Organize Sanayi Mahallesi Mermerciler Sanayi Sitesi 5. Cad. No:15 Beylikdüzü, Istanbul, Turkey. | For all items subject to the EAR. (See § 744.11 of the EAR) | Presumption of denial | 89 FR [INSERT FR PAGE NUMBER] 2/27/2024.
| * * * * * *
| Miray Global Sanayi Ve Ticaret, a.k.a., the following two aliases: —Miray Global Havacilik Sanayi Ve Ticaret As; and —United Aviation Solutions. Altinova Orta Mah., 30 Nolu Sok., A Blok, Sitesi Yilmaz Turk Sit. Blok No: 14A/2 Kepez, Antalya, Turkey; and Antalya Airport Service Buildings Zone A Gate No.44, A Muratpaşa/Antalya, Turkey. | For all items subject to the EAR. (See § 744.11 of the EAR) | Presumption of denial | 89 FR [INSERT FR PAGE NUMBER] 2/27/2024.
| * * * * * *
| Orel Dis Ticaret Ltd., a.k.a., the following two aliases: —Orel Dis Ticaret Limited Sirketi; and —Orel Foreign Trade Limited Company. 632. Sokak No. 6/A, Alaaddinbey Mahallesi, Nilufer, Bursa, 16120, Turkey. | For all items subject to the EAR. (See § 744.11 of the EAR) | Policy of denial | 89 FR [INSERT FR PAGE NUMBER] 2/27/2024.
| * * * * * *
| Ramses Turizm Isletmesi Danismanlik, a.k.a., the following alias: —RMS Technic. Yenigol Mah. Serik Cad. Antalya Havalimani No: 100 Muratpasa, Antalya, Turkey. | For all items subject to the EAR. (See § 744.11 of the EAR) | Presumption of denial | 89 FR [INSERT FR PAGE NUMBER] 2/27/2024.
| * * * * * *
| Smart Trading Tasimacilik San Ve Tic Ltd Sti, a.k.a., the following one alias: —Smart Trading Transportation Industry and Trade Limited Company. Esentepe Mah, 1 Harman St., Duran Business Center, Building 4, Door 8, Sisli, Istanbul, Turkey. | For all items subject to the EAR. (See § 744.11 of the EAR) | Presumption of denial | 89 FR [INSERT FR PAGE NUMBER] 2/27/2024.
| * * * * * *
| Svista Turizm Ve Havacilik Dis, a.k.a., the following alias: —Svista Turizm Ve Havacilik Dis Tic Ltd Sti Antalya Sb. Yenigol Mah. Serik Cad. Antalya Havalimani Sit. No: 100 Muratpasa, Antalya, Turkey; and No: 42 Albatros Sokak, Bahcesehir 1 Kisim Mahallesi, Basaksehir Istanbul, 34488, Turkey. | For all items subject to the EAR. (See § 744.11 of the EAR) | Presumption of denial | 89 FR [INSERT FR PAGE NUMBER] 2/27/2024.
| * * * * * *
| Transeurope Bilişim Diş Ticaret Limited Şirketi, a.k.a., the following one alias: —Trans Europe Bilisim Dis Ticaret Ltd Sti. Kişla Mah. 37 Sk. Cengizhan Apt. No: 6 İç Kapi No. 102, Muratpasa/Antalya, Turkey. | For all items subject to the EAR. (See § 744.11 of the EAR) | Presumption of denial | 89 FR [INSERT FR PAGE NUMBER] 2/27/2024.
| * * * * * *
* * * * * * *
UNITED ARAB EMIRATES | * * * * * *
| Crynofist Aviation, a.k.a., the following two aliases: —Crynofist Aviation Fzco; and —Crynofist Design and Engineering Solutions Pvt Ltd. 9WB 159-SO-26, First Floor, 9WB, Dubai Airport Freezone, Dubai, United Arab Emirates. (See alternate address under India). | For all items subject to the EAR. (See § 744.11 of the EAR) | Presumption of denial | 89 FR [INSERT FR PAGE NUMBER] 2/27/2024.
| * * * * * *
| Lucky Star General Trading LLC, Airport Cargo Village, Agents Building 2013, Dubai, Dubai, United Arab Emirates; and P.O. Box 62647, Dubai, United Arab Emirates; and Office 23, King of Sheikh Manea bin Khalifa Bin Saeed Al Maktoum, Ras Al Khor Industrial Area 1, P.O. Box 120300, Dubai, United Arab Emirates; and Office No 310, Rashid Almajid Bin Quraiban Building, Parcel 118-813, Naif, Deira, Dubai, United Arab Emirates. | For all items subject to the EAR. (See § 744.11 of the EAR) | Presumption of denial | 89 FR [INSERT FR PAGE NUMBER] 2/27/2024.
| * * * * * *
| Marakish Express Cargo LLC, a.k.a., the following one alias: —MEC International. Warehouse #1205, Old Agents Building, Dubai Cargo Village, Dubai, United Arab Emirates; and P.O. Box 293004, Dubai, United Arab Emirates; and Shop No 2048, Department of Civil Aviation Building, Cargo Village, Deira, Dubai, United Arab Emirates. | For all items subject to the EAR. (See § 744.11 of the EAR) | Presumption of denial | 89 FR [INSERT FR PAGE NUMBER] 2/27/2024.
| * * * * * *
| Payload Cargo LLC, a.k.a., the following one alias: —Payload Cargo LCC. Suite 212 E-Block Freight Gate 5, Dnata Building, Dubai, United Arab Emirates; and Suite 302, E Block, FG 5, Dubai Airport Free Zone, Dubai, United Arab Emirates; and P.O. Box 29300, Dubai, United Arab Emirates; and Suite 2026, Dubai Cargo Village, Dubai, United Arab Emirates. | For all items subject to the EAR. (See § 744.11 of the EAR) | Presumption of denial | 89 FR [INSERT FR PAGE NUMBER] 2/27/2024.
| * * * * * *
* * * * * * *
* * * * * * *
³ For this entity, “items subject to the EAR” includes foreign-produced items that are subject to the EAR under § 734.9(g) of the EAR. See §§ 746.8 and 744.21 of the EAR for related license requirements, license review policy, and restrictions on license exceptions.
* * * * * * *

Alan F. Estevez,
Under Secretary of Commerce for Industry and Security.

[FR Doc. 2024-03969 Filed 2-23-24; 8:45 am]

BILLING CODE 3510-JT-P